FEDERAL RETIREMENT THRIFT INVESTMENT BOARD

Sunshine Act; Notice of Meeting

TIME AND DATE: 10:00 a.m. (Eastern Time) December 15, 2014 (Telephonic).

PLACE: 10th Floor Board Meeting Room, 77 K Street NE., Washington, DC 20002.

STATUS: Parts will be open to the public and parts will be closed to the public.

MATTERS TO BE CONSIDERED:

Open to the Public

1. Approval of the Minutes of the November 17, 2014 Board Member Meeting

2. Thrift Savings Plan Monthly Reports

a. Monthly Participant Activity Report

b. Monthly Investment Policy Report

c. Legislative Report

3. Office of the General Counsel Update

Closed to the Public

4. Personnel

CONTACT PERSON FOR MORE INFORMATION: Kimberly Weaver, Director, Office of External Affairs, (202) 942-1640.

Dated: December 4, 2014.
James Petrick,
General Counsel, Federal Retirement Thrift Investment Board.

[FR Doc. 2014-28844 Filed 12-4-14; 4:15 pm]

BILLING CODE 6760-01-P